DEPARTMENT OF AGRICULTURE

Natural Resources Conservation Service

TE-39 South Lake Decade Freshwater Introduction Project, Terrebonne Parish, Louisiana

AGENCY: Natural Resources Conservation Service, USDA.

ACTION: Notice of finding of no significant impact.

SUMMARY: Pursuant to section 102(2)(C) of the National Environmental Policy Act of 1969; the Council on Environmental Quality Guidelines (40 CFR Part 1500); and the Natural Resources Conservation Service Guidelines (7 CFR Part 650); the Natural Resources Conservation Service, U.S. Department of Agriculture, gives notice that an environmental impact statement is not being prepared for the South Lake Decade Freshwater Introduction Project, Terrebonne Parish, Louisiana.

FOR FURTHER INFORMATION CONTACT: Donald W. Gohmert, State Conservationist, Natural Resources Conservation Service, 3737 Government Street, Alexandria, Louisiana 71302; telephone (318) 473-7751.

SUPPLEMENTARY INFORMATION: The environmental assessment of the federally assisted action indicates that the project will not cause significant local, regional, or national impacts on the environment. As a result of these findings, Donald W. Gohmert, State Conservationist, has determined that preparation and review of an environmental impact statement is not needed for this project.

The document evaluates the potential impacts of diverting lower salinity water from Lake Decade southward, improving the distribution and retention of diverted water, and maintaining the hydrologic integrity of the south shore embankment of Lake Decade. The project area encompasses approximately 7,343 acres of marsh and open water habitat. Project features include the installation of three multi-gated diversion structures; approximately 8,700 feet of shoreline protection along the south shore of Lake Decade; two low-level fixed crested weirs; one armored plug closure; enlarging approximately 2,500 feet of Lapeyrouse Canal; restoring 2,900 feet of oilfield embankment; and implementing vegetative protection measures.

The Notice of Finding of No Significant Impact (FONSI) has been forwarded to the Environmental Protection Agency and to various federal, state, and local agencies and interested parties. A limited number of copies of the FONSI are available to fill single copy requests at the above address. Basic data collected during the environmental assessment are on file and may be reviewed by contacting Donald W. Gohmert.

No administrative action on implementation of the proposal will be taken until 30 days after the date of this publication in the Federal Register.

Donald W. Gohmert,
State Conservationist.

[FR Doc. 01-18449 Filed 7-24-01; 8:45 am]

BILLING CODE 3410-16-U